DEPARTMENT OF THE INTERIOR

Bureau of Land Management

[CO-200-1430-ES; COC-49757]

Notice of Realty Action—Fremont and Chaffee Counties

AGENCY: Bureau of Land Management, Interior.

ACTION: Correction.

SUMMARY: In notice document 99-12127 beginning on page 25902 in the issue of May 13, 1999, the legal descriptions of two of the public land parcels (known as the Collegiate Peaks Gateway, Chaffee County and Point Bar, Fremont County) classified for Recreation and Public Purposes lease should be corrected to read:

Sixth Principal Meridian, Colorado

T. 14 S., R. 78 W., Section 23: E½NW¼SW¼, E½SW¼NW¼, west of Chaffee County Road 102 containing approximately 25 acres known as the Collegiate Peaks Gateway.

New Mexico Principal Meridian, Colorado

T. 49 N., R. 10 E., Section 28: That portion of Lots 2, 3, 6, 7, 10 and 11 lying north of U.S. Highway 50 right-of-way and south of the Union Pacific Railroad right-of-way containing approximately 37 acres known as Point Bar.

In notice document 99-8170 beginning on page 15988 in the issue of April 2, 1999, the legal description of the public land parcel in Chaffee County classified for Recreation and Public Purposes lease should be corrected to read:

New Mexico Principal Meridian, Colorado

T. 50 N., R. 8 E., Section 21: The northerly portion of the E½E½NE¼SE¼ lying east of Highway 285. Section 22: The northerly portion of the NW¼SW¼ containing approximately 18 acres known as Big Bend.

In notice document 89-12003 beginning on page 21677 in the issue of May 19 1989, the legal description of the public land parcel (known as the Spike Buck recreation site) classified for Recreation and Public Purposes lease should be corrected to read:

Sixth Principal Meridian, Colorado

T. 18 S., R. 72 W., Section 29: That portion of the NW¼NW¼NE¼ and the NE¼NE¼NW¼ between the thread of the Arkansas River and U.S. Highway 50 containing approximately 7 acres known as Spike Buck.

ADDRESSES: Field Office Manager, Royal Gorge Field Office, 3170 E. Main St., Canon City, Colorado 81212.

FOR FURTHER INFORMATION CONTACT: David Hallock, Realty Specialist, Telephone (719)269-8536.

Dated: January 29, 2000.
Levi Deike,
Associate Field Office Manager.

[FR Doc. 00-2700 Filed 2-4-00; 8:45 am]

BILLING CODE 4310-JB-P